DEPARTMENT OF THE INTERIOR

Bureau of Land Management

[LLCAD06000.L51010000.ER0000 19XL5017AP LVRWB19B6340 (MO# 4500140674)]

Notice of Intent To Prepare an Environmental Impact Statement for the Proposed Whitewater River Groundwater Replenishment Facility, Riverside County, CA

AGENCY: Bureau of Land Management, Interior.

ACTION: Notice of intent.

SUMMARY: In accordance with the National Environmental Policy Act of 1969, as amended (NEPA), and the Federal Land Policy and Management Act of 1976, as amended, the Bureau of Land Management (BLM) Palm Springs-South Coast Field Office, Palm Springs, California, intends to prepare an Environmental Impact Statement (EIS) for the Whitewater River Groundwater Replenishment Facility. The applicant, the Coachella Valley Water District, has requested a right-of-way (ROW) authorization to operate and maintain a groundwater replenishment facility on approximately 690 acres of public lands managed by the BLM. All the facilities are existing; no new construction is proposed. The project site is located within the California Desert Conservation Area. By this notice, the BLM is announcing the beginning of the scoping process to solicit public comments and identify issues.

DATES: This notice initiates the public scoping process for the EIS. Comments on issues may be submitted in writing until December 26, 2019. The date(s) and location(s) of any scoping meetings will be announced at least 15 days in advance through local media, newspapers and the BLM website at: https://bit.ly/2kx76jY. In order to be included in the Draft EIS, all scoping comments must be submitted in writing and received prior to the close of the 30-day scoping period. Additional opportunities for public participation will be available upon publication of the Draft EIS.

ADDRESSES: You may submit comments related to this EIS by any of the following methods:

• Website: https://bit.ly/2kx76jY

• Email: blm_ca_whitewaterrecharge@blm.gov

• Fax: 541-618-2400

• Mail: ATTN: Whitewater Replenishment Facility Project, Bureau of Land Management, Palm Springs-South Coast Field Office, 1201 Bird Center Drive, Palm Springs CA 92262

Documents pertinent to this proposal may be examined during regular business hours at: Bureau of Land Management, Palm Springs-South Coast Field Office, 1201 Bird Center Drive, Palm Springs, CA 92262

FOR FURTHER INFORMATION CONTACT: Miriam Liberatore, Project Manager, telephone 541-618-2412; address Bureau of Land Management, 3040 Biddle Road, Medford, OR 97504; email blm_ca_whitewaterrecharge@blm.gov. Contact Ms. Liberatore to have your name added to our mailing list. Persons who use a telecommunications device for the deaf (TDD) may call the Federal Relay Service (FRS) at 1-800-877-8339 to contact Ms. Liberatore during normal business hours. The FRS is available 24 hours a day, 7 days a week, to leave a message or question. You will receive a reply during normal business hours.

SUPPLEMENTARY INFORMATION: The applicant, Coachella Valley Water District, has requested a ROW authorization to operate and maintain a groundwater replenishment facility with a maximum capacity of 511,000 acre-feet per year, and associated operations and maintenance areas. A portion of the facility is sited on approximately 690 acres of public lands managed by the BLM. All the facilities are existing; no new construction is proposed. The project site is located within the California Desert Conservation Area.

This Notice informs the public that the BLM intends to prepare an EIS for the Project, and announces the beginning of the public scoping process for this effort. The purpose of the public scoping process is to determine the size and scope of analysis needed, additional issues to study, and mitigation measures that should be considered in the analysis of the proposed action.

Preliminary issues for the project have been identified by the BLM, other Federal agencies, the State, local agencies, and other stakeholders. Issues include air quality, special status wildlife and vegetation species, hazards and hazardous materials, hydrology and water quality.

Alternatives will include the proposed action, a no action alternative, and at least one more alternative designed to reduce environmental impacts.

Written comments may be submitted to the BLM at a scoping meeting or via one of the methods listed in the ADDRESSES section earlier. Input must be received by the close of the 30-day public scoping period.

The BLM will utilize and coordinate the NEPA scoping process to help fulfill the public involvement process under the National Historic Preservation Act (NHPA) (54 U.S.C. 306108 as provided in 36 CFR 800.2(d)(3)). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Danielle Chi,
BLM California Deputy State Director, Natural Resources.

[FR Doc. 2019-25465 Filed 11-22-19; 8:45 am]

BILLING CODE 4310-40-P